SMALL BUSINESS ADMINISTRATION

[Disaster Declaration #14675 and #14676]

Texas Disaster Number TX-00465

AGENCY: U.S. Small Business Administration.

ACTION: Amendment 3.

SUMMARY: This is an amendment of the Presidential declaration of a major disaster for the State of TEXAS (FEMA-4266-DR), dated 03/19/2016.

Incident: Severe Storms, Tornadoes, and Flooding.

Incident Period: 03/07/2016 through 03/29/2016.

DATES: Effective Date: 04/04/2016.

Physical Loan Application Deadline Date: 05/18/2016.

EIDL Loan Application Deadline Date: 12/19/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the State of TEXAS, dated 03/19/2016 is hereby amended to include the following areas as adversely affected by the disaster:

Primary Counties: (Physical Damage and Economic Injury Loans): Henderson, Limestone, Shelby, Tyler.

Contiguous Counties: (Economic Injury Loans Only):

Texas: Anderson, Cherokee, Ellis, Falls, Freestone, Hill, Kaufman, Leon, Mclennan, Nacogdoches, Navarro, Polk, Robertson, Van Zandt.

Louisiana: De Soto.

All other information in the original declaration remains unchanged.

(Catalog of Federal Domestic Assistance Numbers 59008)

Lisa Lopez-Suarez,
Acting Associate Administrator for Disaster Assistance.

[FR Doc. 2016-08407 Filed 4-12-16; 8:45 am]

BILLING CODE 8025-01-P